DEPARTMENT OF LABOR

Pension and Welfare Benefits Administration

Proposed Extension of Information Collection; Comment Request; Prohibited Transaction Exemption 94-20

ACTION: Notice.

SUMMARY: The Department of Labor (the Department), as part of its continuing effort to reduce paperwork and respondent burden, conducts a preclearance consultation program to provide the general public and Federal agencies with an opportunity to comment on proposed and continuing collections of information in accordance with the Paperwork Reduction Act of 1995 (PRA 95) (44 U.S.C. 3506(c)(2)(A)). This helps to ensure that requested data can be provided in the desired format, report burden (time and financial resources) is minimized, collection instruments are clearly understood, and the impact of collection requirements on respondents can be properly assessed.

Currently, the Pension and Welfare Benefits Administration is soliciting comments concerning the extension of the information collection requests (ICR) incorporated in Prohibited Transaction Class Exemption 94-20, Purchases and Sales of Foreign Currencies. A copy of the ICR may be obtained by contacting the office listed in the addresses section of this notice.

DATES: Written comments must be submitted to the office shown in the addresses section below on or before March 27, 2000.

ADDRESSES: Gerald B. Lindrew, Office of Policy and Research, U.S. Department of Labor, Pension and Welfare Benefits Administration, 200 Constitution Avenue, NW, Room N-5647, Washington, D.C. 20210. Telephone: (202) 219-4782; Fax: (202) 219-4745. These are not toll-free numbers.

SUPPLEMENTARY INFORMATION:

I. Background

Prohibited Transaction Class Exemption 94-20 permits the purchase and sale of foreign currencies between an employee benefit plan and a bank or a broker-dealer or an affiliate thereof that is a party in interest with respect to such plan. In the absence of this exemption, certain aspects of these transactions could be prohibited by section 406(a) of the Employee Retirement Security Act of 1974 (the Act).

II. Desired Focus of Comments

The Department is particularly interested in comments which—

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

III. Current Action

This existing collection of information should be continued because without the relief provided by this exemption, foreign exchange transactions between a bank or an affiliate thereof and an employee benefit plan with respect to which the bank or an affiliate is a trustee, custodian, fiduciary, or other party in interest would violate certain provisions of the Act. Specifically, individuals or entities which are parties in interest with respect to a plan would not be permitted to engage in a purchase or sale of foreign currencies between the bank, broker-dealer, or a affiliate thereof and an employee benefit plan, thus creating a potential hardship to those affected. The exemption has one basic information collection condition—the bank or broker-dealer or affiliates thereof are required to maintain within territories under the jurisdiction of the United States Government, for a period of six years from the date of the transaction, records of the foreign exchange transaction. Without such records, the Department would be unable to effectively enforce the terms of the exemption, insure user compliance, and protect the interests of employee benefit plan participants and beneficiaries.

Type of Review: Extension of currently approved collections of information.

Agency: Pension and Welfare Benefits Administration.

Title: Prohibited Transaction Class Exemption 94-20, Purchases and Sales of Foreign Currencies.

OMB Number: 1210-0085.

Recordkeeping: Six years.

Affected Public: Individuals or households; Business or other for-profit; Not-for-profit institutions.

Total Respondents: 35.

Average Time per Response: 5 minutes.

Total Responses: 175.

Estimated Total Burden Hours: 15.

This notice requests comments on the extension of the ICR included in Prohibited Transaction Class Exemption 94-20. The Department is not proposing or implementing changes to the existing ICR at this time. Comments submitted in response to this notice will be summarized and/or included in the request for OMB approval of the information collection request; they will also become a matter of public record.

Dated: January 20, 2000.
Gerald B. Lindrew,
Deputy Director, Office of Policy and Research Pension and Welfare Benefits Administration.

[FR Doc. 00-1783 Filed 1-25-00; 8:45 am]

BILLING CODE 4510-29-M